DEPARTMENT OF JUSTICE

Notice of Lodging of Partial Consent Decrees Comprehensive Environmental Response, Compensation, and Liability Act

Notice is hereby given that on February 15, 2002, two proposed partial consent decrees in United States v. ABC Compounding Co. et al., Civil Action No. 1:02-cv-291-RLV, were lodged with the United States District Court for the Northern District of Georgia.

In this action the United States sought under section 107(a) of CERCLA, 42 U.S.C. 9607(a), the recovery of past response costs with respect to the Murphy Avenue Drum Site, located at 1230 Murphy Avenue in Atlanta, Fulton County, Georgia. The defendants in the action are ABC Compounding Co., Davis Manufacturing and Packaging, Inc., Henkel Corporation, Hill Manufacturing Co., Inc., Southern Industrial Chemicals, Inc. (aka “SIC Technologies, Inc.” or “SIC”), and Union Carbide Corporation. Together, the two partial consent decrees resolve claims for past response costs at the Site against all defendants. Under the first partial consent decree, all defendants other than SIC have agreed to pay $465,000 to the Superfund toward EPA's past response costs. The second partial consent decree is an ability-to-pay settlement under which SIC has agreed to pay $12,000 to the Superfund in four quarterly installments.

The Department of Justice will receive comments relating to the proposed consent decrees for a period of thirty (30) days from the date of this publication. Comments should be addressed to the Assistant Attorney General, Environment and Natural Resources Division, PO Box 7611, U.S. Department of Justice, Washington, DC 20044-7611, and should refer to United States v. ABC Compounding Co. et al., DJ # 90-11-3-07393.

The proposed consent decrees may be examined at the office of the United States Attorney for the Northern District of Georgia, 1800 U.S. Courthouse, 75 Spring Street, SW, Atlanta, GA 30335, and at the Region 4 office of the Environmental Protection Agency, Atlanta Federal Center, 61 Forsyth Street, Atlanta, GA 30303. A copy of the proposed consent decrees may also be obtained by mail from the Consent Decree Library, PO. Box 7611, U.S. Department of Justice, Washington, DC 20044-7611, or by faxing a request to Tonia Fleetwood, fax no. (202) 514-0097, phone confirmation number (202) 514-1547. In requesting a copy, please enclose a check in the amount of $9.50 (25 cents per page reproduction cost) payable to the U.S. Treasury. The check should refer to United States v. ABC Compounding Co. et al., DJ # 90-11-3-07393.

Ellen M. Mahan,
Assistant Chief, Environmental Enforcement Section, Environment and Natural Resources Division.

[FR Doc. 02-5543 Filed 3-7-02; 8:45 am]

BILLING CODE 4410-15-M